DEPARTMENT OF COMMERCE

National Oceanic and Atmospheric Administration

[I.D. 031105D]

Endangered Fish and Wildlife; Marine Mammal Protection Act, Draft Conservation Plan for the Cook Inlet Stock of Beluga Whales

AGENCY: National Marine Fisheries Service (NMFS), National Oceanic and Atmospheric Administration (NOAA), Commerce.

ACTION: Notice of availability; request for written comments.

SUMMARY: The Marine Mammal Protection Act (MMPA) of 1972, as amended, requires the Secretary of Commerce to prepare a conservation plan for any species or stock designated as depleted under that Act. The Cook Inlet stock of beluga whales was designated as depleted on May 31, 2000, and this Conservation Plan is being written to promote the conservation and recovery of these whales. The goal of this Conservation Plan (Plan) will be met when the Cook Inlet stock of beluga whales are no longer considered depleted under the MMPA.

DATES: Comments and information must be received by May 16, 2005.

ADDRESSES: Copies of the Draft Conservation Plan may be reviewed and/or copied at the NMFS, Protected Resources Division, 222 W. 7th Ave., #43, Anchorage, AK, 99513; or at the Alaska Regional Office, Protected Resources Division, 709 W. 9th St., P.O. Box 21668, Juneau, AK 99802. The draft Conservation Plan is available on the Internet at the following address: http://www.fakr.noaa.gov/protectedresources/whales/beluga.htm. Comments on the Draft Conservation Plan should be sent to the above addresses, or can be electronically forwarded to the following e-mail address: Records.Fakr@noaa.gov. Please identify electronic comments with the header: Beluga Whale Conservation Plan.

FOR FURTHER INFORMATION CONTACT: Kaja Brix, NOAA/NMFS, Alaska Region, (907) 586 7235, or Brad Smith, NOAA/NMFS, Alaska Region, Anchorage Field Office, (907) 271 5006.

SUPPLEMENTARY INFORMATION: The Cook Inlet beluga whale stock declined by greater than 50 percent during the last decade. In response to this significant decline, NMFS designated the Cook Inlet stock of beluga whales as depleted under the MMPA on May 31, 2000 (65 FR 34590). Subsequent surveys conducted between 1999 and 2004 have resulted in abundance estimates ranging from 313 to 435, with no clear trend. Since 1999 the subsistence harvest of this stock has been significantly restricted as compared to previous years (down to 0-2 whales annually). However, the population has not shown any significant response as was expected following the restriction on the number of animals taken in the subsistence harvest.

This draft Plan delineates reasonable actions necessary to protect the depleted Cook Inlet beluga whales under the MMPA. The conservation strategy outlined in the Plan is meant to guide Federal and other actions toward the goal of recovering the Cook Inlet beluga whales.

The Plan provides a description of the biology and life history of the Cook Inlet stock of beluga whales, a description of the population trends in recent decades and their current depleted status under the MMPA, and management goals and objectives for recovery of the stock. The Plan also outlines known and possible factors that may be influencing the stock including natural factors such as stranding events, predation, disease and environmental change, and human-induced factors that may be, or have been in recent years, influencing trends in the abundance of this stock. These human-induced factors include the subsistence harvest, commercial fishing and its potential to influence prey availability, pollution in the inlet, vessel traffic, noise, oil and gas development and possible effects from research activities.

The Plan outlines a conservation strategy that addresses each of the natural and human-induced factors that may be influencing the recovery of the stock. It also outlines a monitoring strategy for future subsistence harvests and the development and use of beluga whale habitat in Cook Inlet, and a research plan as part of the monitoring and recovery strategy. The recommended conservation actions are developed for each known factor that may be influencing the stock, and linked to the applicable research recommendations.

Public and Agency Involvement: The goals and objectives of the draft Plan can be achieved only if a long-term commitment is made to support the respective actions recommended herein. The shared resources and cooperative involvement of federal, state, and local governments, industry, academia, non-governmental organizations, Alaska Natives, and other invested individuals will be required throughout the recovery period.

NMFS is soliciting comments on the draft Plan with this notice. Comments can be forwarded to [see ADDRESSES].

Dated: March 11, 2005.
Donna S. Wieting
Acting Director, Office of Protected Resources, National Marine Fisheries Service.

[FR Doc. 05-5224 Filed 3-15-05; 8:45 am]

BILLING CODE 3510-22-S